DEPARTMENT OF THE INTERIOR

National Park Service

[NPS-WASO-NAGPRA-NPS0030487; PPWOCRADN0-PCU00RP14.R50000]

Notice of Inventory Completion: Princeton University, Princeton, NJ

AGENCY: National Park Service, Interior.

ACTION: Notice.

SUMMARY: Princeton University has completed an inventory of associated funerary objects, in consultation with the appropriate Indian Tribes or Native Hawaiian organizations and has determined that there is a cultural affiliation between the associated funerary objects and present-day Indian Tribes or Native Hawaiian organizations. Lineal descendants or representatives of any Indian Tribe or Native Hawaiian organization not identified in this notice that wish to request transfer of control of associated funerary objects should submit a written request to Princeton University. If no additional requestors come forward, transfer of control of the associated funerary objects to the lineal descendants, Indian Tribes, or Native Hawaiian organizations stated in this notice may proceed.

DATES: Lineal descendants or representatives of any Indian Tribe or Native Hawaiian organization not identified in this notice that wish to request transfer of control of these associated funerary objects should submit a written request with information in support of the request to Princeton University at the address in this notice by October 8, 2020.

ADDRESSES: Bryan R. Just, Princeton University Art Museum, Princeton, NJ 08544, telephone (609) 258-8805, email bjust@princeton.edu.

SUPPLEMENTARY INFORMATION: Notice is here given in accordance with the Native American Graves Protection and Repatriation Act (NAGPRA), 25 U.S.C. 3003, of the completion of an inventory of associated funerary objects under the control of Princeton University, Princeton, NJ. The associated funerary objects were removed from Chevelon, Homolovi I, and Homolovi II, in Navajo County, AZ.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the human remains was made by Princeton University professional staff in consultation with representatives of the Hopi Tribe of Arizona and the Zuni Tribe of the Zuni Reservation, New Mexico.

History and Description of the Remains

In 1899, human remains and associated funerary objects were excavated from Chevelon, Homolovi I, and Homolovi II, in Navajo County, AZ, by J.A. Burt on behalf of the Field Museum of Natural History, and they were accessioned by the Field Museum in February of 1900. In 1907, as part of a larger transfer of pottery, one bowl from each of the three sites was sent to Princeton University. The human remains with which the three bowls are associated are in the control and possession of the Field Museum of Natural History, Chicago, IL. No known individuals were identified. The associated funerary objects are these three ceramic bowls.

Chevelon was occupied from around A.D. 1250 until 1450. According to documentation from the Field Museum of Natural History, the bowl from Chevelon (73363) was excavated from grave 80. The bowl is black-on-yellow with geometric designs on the inside and outside of the bowl.

Homolovi I was occupied from around A.D. 1285 to 1390. According to documentation from the Field Museum of Natural History, the bowl from Homolovi I (73404) was excavated from grave 29. The bowl is black-on-orange with a geometric design on the inside of the bowl.

Homolovi II was occupied from around A.D. 1350 to 1400. According to documentation from the Field Museum of Natural History, the bowl from Homolovi II (73531) was excavated from grave 13. The bowl is black-on-white bowl with geometric designs on the inside and outside of the bowl.

Determinations Made by Princeton University

Officials of Princeton University have determined that:

• Pursuant to 25 U.S.C. 3001(3)(A), the three objects described in this notice are reasonably believed to have been placed with or near individual human remains at the time of death or later as part of the death rite or ceremony.

• Pursuant to 25 U.S.C. 3001(2), there is a relationship of shared group identity that can be reasonably traced between the Native American associated funerary objects and the Hopi Tribe of Arizona and the Zuni Tribe of the Zuni Reservation, New Mexico.

Additional Requestors and Disposition

Lineal descendants or representatives of any Indian Tribe or Native Hawaiian organization not identified in this notice that wish to request transfer of control of these associated funerary objects should submit a written request with information in support of the request to Bryan R. Just, Princeton University Art Museum, Princeton, NJ 08544, telephone (609) 258-8805, email bjust@princeton.edu, by October 8, 2020. After that date, if no additional requestors have come forward, transfer of control of the human remains and associated funerary objects to the Hopi Tribe of Arizona and the Zuni Tribe of the Zuni Reservation, New Mexico may proceed.

Princeton University is responsible for notifying the Hopi Tribe of Arizona and the Zuni Tribe of the Zuni Reservation, New Mexico that this notice has been published.

Dated: June 18, 2020.
Melanie O'Brien,
Manager, National NAGPRA Program.

[FR Doc. 2020-19700 Filed 9-4-20; 8:45 am]

BILLING CODE 4312-52-P